FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011921.

Title: Hapag Lloyd/CP Ships Agreement.

Parties: CP Ships USA, LLC/CP Ships (UK) Limited, and Hapag-Lloyd Container Line GmbH.

Filing Parties: Jeffrey F. Lawrence, Esq., and David F. Smith, Esq.; Sher & Blackwell LLP; 1850 M Street, NW., Suite 900; Washington, DC 20036.

Synopsis: The proposed agreement would authorize the parties to discuss and agree on rates, terms, and conditions in all U.S. trades; share space on each other's vessels; and engage in other cooperative activities. The parties request expedited review.

Dated: October 3, 2005.
By order of the Federal Maritime Commission.
Bryant L. VanBrakle,
Secretary.

[FR Doc. 05-20135 Filed 10-5-05; 8:45 am]

BILLING CODE 6730-01-U